DEPARTMENT OF TRANSPORTATION

Federal Aviation Administration

RTCA Government/Industry Free Flight Steering Committee Meeting

AGENCY: Federal Aviation Administration (FAA), DOT.

ACTION: Notice of RTCA Government/Industry Free Flight Steering Committee meeting.

SUMMARY: The FAA is issuing this notice to advise the public of a meeting of the RTCA Government/Industry Free Flight Steering Committee.

DATES: The meeting will be held August 8, 2001, from 1-5 p.m.

ADDRESSES: The meeting will be held at FAA Headquarters, 800 Independence Avenue, SW, Bessie Coleman Conference Center (Room 2AB), Washington, DC 20591.

FOR FURTHER INFORMATION CONTACT: RTCA Secretariat, 1828 L Street, NW, Suite 805, Washington, DC 20036; telephone (202) 833-9339; fax (202) 833-9434; web site http.//www.rtca.org.

SUPPLEMENTARY INFORMATION: Pursuant to section 10(a)(2) of the Federal Advisory Committee Act (Pub. L. 92-463, 5 U.S.C., Appendix 2), notice is hereby given for a Free Flight Steering Committee meeting. The agenda will include:

• August 8.

• Opening Session (Welcome and Introductory Remarks, Review/Approve Summary of Previous Meeting).

• FAA Reports:

• Operational Evolution Plan.

• Free Flight Program Office Update.

• Report/Recommendations from the Free Flight Select Committee.

• Closing Session (Other Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 25, 2001.
Janice L. Peters,
FAA Special Assistant, RTCA Advisory Committee.

[FR Doc. 01-19157 Filed 7-31-01; 8:45 am]

BILLING CODE 4910-13-M